DEPARTMENT OF HOUSING AND URBAN DEVELOPMENT

[Docket No. FR-5421-FA-01]

Announcement of Funding Awards for the Indian Community Development Block Grant Program for Fiscal Year 2009

AGENCY: Office of Native American Programs, Office of Public and Indian Housing, HUD.

ACTION: Announcement of funding awards.

SUMMARY: In accordance with Section 102(a)(4)(C) of the Department of Housing and Urban Development Reform Act of 1989, this announcement notifies the public of funding decisions made by the Department in a competition for funding under the Fiscal Year 2009 (FY 2009) Notice of Funding Availability (NOFA) for the Indian Community Development Block Grant (ICDBG) Program. This announcement contains the consolidated names and addresses of this year's award recipients under the ICDBG.

FOR FURTHER INFORMATION CONTACT: For questions concerning the ICDBG Program awards, contact the Area Office of Native American Programs (ONAP) serving your area or Deborah M. Lalancette, Office of Native Programs, 1670 Broadway, 23rd Floor, Denver, CO 80202, telephone (303) 675-1600. Hearing or speech-impaired individuals may access this number via TTY by calling the toll-free Federal Information Relay Service at (800) 877-8339.

SUPPLEMENTARY INFORMATION: This program provides grants to Indian tribes and Alaska Native Villages to develop viable Indian and Alaska Native communities, including the creation of decent housing, suitable living environments, and economic opportunities primarily for persons with low and moderate incomes as defined in 24 CFR 1003.4.

The FY 2009 awards announced in this Notice were selected for funding in a competition posted on HUD's Web site on May 29, 2009 (http://portal.hud.gov/portal/page/portal/HUD/program_offices/administration/grants/fundsavail). Applications were scored and selected for funding based on the selection criteria in that notice and Area ONAP geographic jurisdictional competitions.

The amount appropriated in FY 2009 to fund the ICDBG was $65,000,000. Of this amount $3,960,000 of this amount was retained to fund imminent threat grants in FY 2009. In addition, a total of $2,076,159 in carryover funds from prior years was also available. The allocations for the Area ONAP geographic jurisdictions, including carryover, are as follows:

Alaska | $6,859,040
Eastern/Woodlands | 6,928,622
Northern Plains | 9,194,667
Northwest | 3,662,163
Southern Plains | 13,734,388
Southwest | 22,737,279
Total | $63,116,159

In accordance with section 102 (a)(4)(C) of the Department of Housing and Urban Development Reform Act of 1989 (103 Stat.1987, 42 U.S.C. 3545), the Department is publishing the names, addresses, and amounts of the 83 awards made under the various regional competitions in Appendix A to this document.

Dated: May 4, 2010.
Sandra B. Henriquez,
Assistant Secretary for Public and Indian Housing.

Appendix A
Name of applicant | Amount funded | Activity funded | Project description
Alabama—Quassarte Tribal Town, Tarpie Yargee, Chief, P.O. Box 187, Wetumka, OK, (405) 452-3987 | $797,305 | Public Facility—Community Center | Construction of a senior center.
Apsaalooke (Crow) Nation, Cedric Black Eagle, Chairperson, P.O. Box 159, Crow Agency, MT 59022, (406) 638-3717 | 1,100,000 | Public Facility—Infrastructure | P3a wastewater collection system.
Bear River Band of Rohnerville, Rancheria, Leonard Bowman, Chairman, 27 Bear River Drive, Loleta, CA 95551, (707) 733-1900 | 605,000 | Housing—New Construction | Three units of single family homeownership.
Big Valley Tribe of Pomo Indians, Valentino Jack, Chairperson, 2726 Mission Rancheria Road, Lakeport, CA 95453, (707) 263-3924 | 605,000 | Public Facility—Infrastructure | Infrastructure for 11 housing units—new construction.
Cahuilla Band of Mission Indians, Luther Salgado, Chairperson, P.O. Box 391760, Anza, CA 92539, (909) 763-5549 | 605,000 | Housing—New Construction | Five units (either stick built or manufactured).
Chemehuevi Indian Tribe, Charles Wood, Chairperson, P.O. Box 1976, Havasu Lake, CA 92363, (760) 858-4219 | 605,000 | Public Facility—Infrastructure | Water and wastewater systems renovation.
Cherokee Nation, Chad Smith, Principal Chief, P.O. Box 948, Tahlequah, OK 74465, (918) 456-0671 | 750,000 | Public Facility—Community Center | Nowata Food/Senior Nutrition Center.
Chickasaw Nation, Bill Anoatubby, Governor, P.O. Box 1548, Ada, OK 74821, (580) 436-2603 | 800,000 | Public Facility—Community Center | Chickasaw Nation Head Start Expansion Project.
Chippewa-Cree Tribe of the Rocky Boy Reservation, Donna Sue Hay, Executive Director, RR1 Box 544, Box Elder, MT 59521, (406) 395-5705 | 900,000 | Housing Rehabilitation | At least 24 single family 3-bedroom units.
Choctaw Nation, Gregory E. Pyle, Chief, P.O. Drawer 1210, Durant, OK 74702, (580) 924-8280 | 800,000 | Economic Development | Construction of a new building to house an economic development project.
Cocopah Indian Tribe, Sherry Cordova, Chairperson, County 15, Avenue G, Somerton, AZ 85350, (928) 627-2514 | 605,000 | Housing Rehabilitation | 17 units of housing rehabilitation.
Confederated Tribe of Coos, Lower Umpqua & Siuslow Indians, Francis Somday, Tribal Administrator, 1245 Fulton Ave, Coos Bay, OR 97420, 1-888-280-0726 | 500,000 | Other | Demolition of existing buildings at Coos Head Site.
Confederated Tribes of the Grand Ronde, Cheryl Kennedy, Tribal Chairperson, 9615 Grand Ronde, Grand Ronde, OR 97420, (503) 879-5211 | 325,000 | Public Facility—Community Center | 2890 sq. ft. library addition.
Cook Inlet Tribal Council, Inc., Gloria O'Neill, President, 3600 San Jeronimo Drive, Anchorage, AK 99508, (907) 793-3401 | 90,000 | Homeownership | Homebuyer assistance.
Delaware Tribe of Indians, Jerry Douglas, Chief, 170 N.E. Barbara Ave, Bartlesville, OK 74354, (918) 336-5272 | 800,000 | Public Facility—Community Center | Addition to resource & education care center.
Eastern Band of Cherokee Indians of NC, Michelle Hicks, Principal Chief, P.O. Box 455, Cherokee, NC 28719, (828) 497-7002 | 487,500 | Public Facility—Special Needs | Alzheimer's unit at Tsali Care Center.
Eastern Shawnee Tribe of OK, Glenna Wallace, Chief, P.O. Box 350, Seneca, MO 64865, (918) 666-2435 | 800,000 | Public Facility—Community Center | Activity center with a gymnasium and classroom with computer labs.
Ely Shoshone Tribe, Alvin Marques, Chairperson, 16 Shoshone Circle, Ely, NV 89301, (775) 289-3013 | 297,279 | Housing Rehabilitation | Seven units of housing rehabilitation for the elderly using Energy Star appliances.
Gila River Health Care Corporation, Pam Thompson, Chief Operating Officer, PO Box 38, Sacaton, AZ 85247, (602) 528-1397 | 2,750,000 | Public Facility—Community Center | Memorial—Hospital facility.
Grand Portage Reservation Tribal Council, Norman Deschampe, Chairperson, P.O. Box 428, Grand Portage, MN 55605, (218) 475-2277 | 600,000 | Public Facility—Infrastructure | Human Services Center rehabilitation.
Grand Traverse Band of Ottawa and Chippewa Indians, Jane A. Rohl, Tribal Manager, 2605 NW Bay Shore Drive, Suttons Bay, MI 49682, (213) 534-7136 | 600,000 | Public Facility—Community Center | Medical Lodge renovations.
Hannahville Indian Community, Kenneth Meshigaud, Chairperson, N14911 Hannahville B1 Road, Wilson, MI 49896, (906) 466-2932 | 550,500 | Housing Rehabilitation | Housing rehabilitation.
Houlton Band of Maliseet Indians, Brenda Commander, Chief, 88 Bell Road, Littleton, ME 04730, (207) 532-4273 | 600,000 | Public Facility—Community Center | Health clinic.
Hualapai Indian Tribe, Wilfred Whatoname, Sr., Chairman, P.O. Box 19, Peach Springs, AZ, (928) 769-2216 | 825,000 | Public Facility—Community Center | Child care center.
Hughes Village, Wilmer Beetus, First Chief, P.O. Box 45029, Hughes, AK 99745, (907) 889-2239 | 600,000 | Housing—New Construction | Two single-family homes.
Igiugig Village, Dallia Andrew, President, P.O. Box 4008, Igugig, AK 99613, (907) 533-3211 | 600,000 | Public Facility—Special Needs | Construction of a new health clinic.
Keweenah Bay Indian Community, Susan LeFernier, Vice President, 107 Beartown Road, Baraga, MI 49908, (906) 353-4168 | 600,000 | Public Facility—Community Center | Gas station-convenience store.
Kickapoo Tribe of OK, Marilyn Winsea, Chairwoman, P.O. Box 70, McLoud, OK 74851, (405) 964-2075 | 779,700 | Housing Rehabilitation | Kickapoo green rehabilitation housing project.
Klamath Indian Tribe, Joseph Kirk, Tribal Chairperson, P.O. Box 436, Chiloquin, OR 97624, (541) 783-2219 | 500,000 | Public Facility—Community Center | Community center.
Lac du Flambeau Band of Chippewa, Dee Mayo for Carl Edwards, President, P.O. Box 67, Lac Du Flambeau, WI 54538, (715) 588-3303 | 600,000 | Public Facility—Community Center | Dental clinic addition.
Lower Brule Sioux Tribe, Jeannie M. Smith, Executive Director, 187 Oyate Circle, Lower Brule, SD 57548, (605) 473-5561 | 900,000 | Housing—New Construction | Seven detached single family homes.
Lummi Nation Housing Authority, Jacqueline Ballew, LHA Chairperson, 2828 Kwina Road, Bellingham, WA 98226, (360) 312-8407 | 500,000 | Public Facility—Infrastructure | Roads and infrastructure for 14 unit subdivision.
Makah Tribe, Micah McCarty, Vice-Chairman, P.O. Box 115, Neah Bay, WA 98357, (360) 645-2201 | 500,000 | Housing Rehabilitation | Housing rehabilitation on 25-30 homes.
McGrath Native Village, Carolyn Vanderpool, 1st Chief, P.O. 134, McGrath, AK 99627, (907) 524-3024 | 600,000 | Public Facility—Infrastructure | McGrath multi-purpose community service center.
Mechoopda Tribe of Chico Rancheria, Dennis Ramirez, Chairperson, 125 Mission Ranch Boulevard, Chico, CA 95926, (530) 899-8922 | 605,000 | Housing—New Construction and Public Services | Public service and new housing construction.
Mentasta Traditional Council, Nora David, President, P.O. Box 6019, Mentasta Lake, AK 99780, (907) 291-2319 | 600,000 | Housing—New Construction | Three single family homes.
Mescalero Apache Housing Authority, Alvin Benally, Executive Director, P.O. Box 227, Mescalero, NM 88340, (575) 464-4494 | 825,000 | Housing Rehabilitation | Housing rehabilitation.
Miami Tribe of OK, Tom Gamble, Chief, P.O. Box 1326, Miami, OK 74355, (918) 542-1445 | 794,574 | Public Facility—Community Center | Dental and optometry health facility.
Modoc Tribe, Bill G. Follis, Chief, 515 G SE Street, Miami, OK 74354, (918) 542-1190 | 787,286 | Public Facility—Community Center | Construction of the Northeastern Tribal Health System Health Programs Administration building.
Nambe Pueblo Housing Entity, Christine Brock, Executive Director, 11 W. Gutierrez, Box 3456, Santa Fe, NM 87506, (505) 455-0158 | 605,000 | Homeownership | Homeownership assistance to 12 tribal members.
Native Village of Ambler, Shield Downey, Jr., President, P.O. Box 47, Ambler, AK 99786, (907) 445-2196 | 600,000 | Housing Rehabilitation | Rehabilitation and weatherization.
Native Village of Buckland, Evans Thomas, Jr., President, P.O. Box 67, Buckland, AK 99727, (907) 494-2171 | 600,000 | Housing Rehabilitation | General rehabilitation and/or weatherization assistance.
Native Village of Kluti-Kaah, Carl Pete, President, P.O. Box 68, Copper Center, AK 99573, (907) 822-5541 | 600,000 | Housing—New Construction | Three single family homes.
Native Village of Perryville, Gerald Kosbruk, President, P.O. Box 89, Perryville, AK 99648, (907) 853-2230 | 600,000 | Housing—New Construction | Six single family homes.
Native Village of Port Graham, Patrick Norman, Ist Chief, P.O. Box 5510, Port Graham, AK 99603, (907) 284-2227 | 600,000 | Public Facility—Community Center | Port Graham Behavioral Health and Community Support Service Center.
Navajo Nation, Joseph Shirley, Jr., President, P.O. Box 9000, Window Rock, AZ 86515, (928) 871-6352 | 5,500,000 | Public Facility—Infrastructure | #1—Tonalea Powerline Extension. #2—Kinilichee Powerline Extension. #3—LeChee Powerline Extension. #4—Rock Point Sub-Station Upgrade. #5—Chinle Powerline Extension. #6—Dennehotso Waterline Extension.
Northwestern Band of Shoshone Indians TDHE, Jon Warner, Executive Director, 707 N. Main Street, Brigham City, UT 84302, (435) 723-3013 | 900,000 | Housing—New Construction and Rehabilitation | Construction of five new housing units, rehabilitation of at least two units.
Oglala Sioux (Lakota) Housing Authority, Doyle Pipe On Head, Assistant CEO, 400 East Highway 18, Pine Ridge, SD 57770, (605) 867-5161 | 900,000 | Housing Rehabilitation | 78 basements and 136 bathrooms.
Ohkay Owingeh Housing Authority, Tomasita Duran, Executive Director, P.O. Box 1059, Ohkay Owingeh, NM 87566, (505) 852-0189 | 605,000 | Public Facility—Infrastructure | Gas and infrastructure.
Oneida Tribe of Wisconsin, Richard G. Hill, Chairman, PO Box 365, Oneida, WI 54155, (920) 869-2214 | 600,000 | Public Facility—Infrastructure | Smits Farms infrastructure.
Organized Village of Saxman, Lee Wallace, President, Rt. 2 Box 2, Ketchikan, AK 99901, (907) 247-2502 | 594,276 | Public Facility—Special Needs | Public facilities improvements project—senior center.
Ottawa Tribe, John Ballard, Chief, P.O. Box 110, Miami, OK 74355, (918) 540-1536 | 794,878 | Public Facility—Community Center | Construction of the Northeastern Tribal Health System Diabetes Education and Physical Therapy Building.
Pascua Yaqui Tribe, Peter Yucupicio, Chairman, 7474 S. Camino de Oe, Tucson, AZ 85757, (520) 883-5000 | 2,200,000 | Public Facility—Community Center | Diabetes Wellness Center.
Pawnee Nation, George Howell, President, P.O. Box 470, Pawnee, OK 74058, (918) 762-3621 | 253,473 | Public Facility—Community Center | Early Childhood Development Center.
Penobscot Tribe of Maine, Kirk Francis, Chief, 12 Wabanaki Way, Indian Island, ME 04468, (207) 817-7349 | 597,980 | Homeownership | Homeowners Assistance.
Peoria Tribe of Indians of OK, John Froman, Chief, P.O. Box 1527, Miami, OK 74355, (918) 540-2535 | 792,949 | Public Facility—Community Center | Construction of Community Health Services Facilities and Improvements.
Pueblo de Cochiti Housing Authority, Rick Tewa, Executive Director, P.O. Box 98, Cochiti Pueblo, 87072, (505) 465-0264 | 605,000 | Housing Rehabilitation | Twenty-two units of rehabilitation on the reservation.
Pueblo of Pojoaque, George Rivera, Governor, 78 Cities of Gold Road, Santa Fe, NM 87506, (505) 455-3334 | 605,000 | Public Facility—Community Center | Public Facility—Community: Teen Wellness Center.
Quapaw Tribe, John Berrey, Chief, P.O. Box 765, Quapaw, OK 74363, (918) 542-1853 | 794,793 | Public Facility—Community Center | Design and construction of a pharmacy & behavioral health facility.
Quinault Indian Nation, Fawn Sharp, Tribal Chairperson, 1214 Aalis Street, Taholah, WA 98587, (360) 276-8211 | 356,000 | Microenterprise | Establish CDFI to provide TA and loans to build and strengthen microenterprises on the Quinault Reservation.
San Felipe Pueblo Housing Authority, Isaac Perez, Executive Director, P.O. Box 4222, San Felipe Pueblo, NM 87000, (505) 771-9291 | 825,000 | Homeownership | Homeownership assistance to existing homeowners.
Santa Clara Pueblo Housing Authority, Francisco Simbana, Executive Director, 81 South Santa Road, Espanola, NM 87532, (505) 753-6170 | 825,000 | Housing Rehabilitation | Housing rehabilitation of traditional and older HUD homes throughout the reservation.
Shawnee Tribe, Ron Sparkman, Chairman, P.O. Box 189, Miami, OK 74355, (918) 542-2441 | 800,000 | Public Facility—Community Center | Rehabilitation/construction of the Shawnee Tribe Social Service and Resource Center.
Shinnecock Indians Tribe of New York, Randy King, Chairman, P.O. Box 5006, Southhampton, NY 11968, (631) 283-6143 | 600,000 | Public Facility—Community Center | Early Learning Day Care Center.
Shoalwater Bay Indian Tribe, Charlene Nelson, Tribal Chairperson, P.O. Box 130, Tokeland, WA 98590, (360) 267-6766 | 481,163 | Public Facility—Community Center | Construct multi-purpose building.
Sisseton-Wahpeton Oyate, Michael Selvage, Chairperson, P.O. Box 509, Agency Village, SD 57262, (605) 698-3911 | 729,667 | Housing Rehabilitation | Thirty units of housing rehabilitation.
Sokoagon Chippewa Community, Arlyn Ackley, Chairperson, 3051 Sand Lake Road, Crandon, WI 54520, (715) 478-7500 | 492,642 | Public Facility—Infrastructure | Water/sewer extension.
Spokane Tribe, Gregory Abramson, Tribal Chairperson, P.O. Box 100, Wellpinit, WA 99040, (509) 458-6500 | 500,000 | Public Facility—Community Center | Tribal Elder Service Center.
St. George Island, Mr. CH Merculief, President, P.O. Box 940, St. George Island, AK 99660, (907) 859-2205 | 174,764 | Housing Rehabilitation | St. George Housing Rehabilitation.
Taos Pueblo Housing, Daniel Suazo, Acting Executive Director, P.O. Box 2570, Taos, NM 87571, (575) 737-9704 | 825,000 | Housing Rehabilitation | Twenty-one units for the elderly.
Three Affiliated Tribes of the Fort Berthold Reservation, Marcus D. Levings, Chairperson, 404 Frontage Road, New Town, ND 58763, (701) 627-2600 | 900,000 | Public Facility—Community Center | Parshall Community Multi-Purpose Senior and Wellness Center.
Tunica-Biloxi Tribe of LA, Earl Barbry, Sr., Chairman, P.O. Box 1589, Marksville, LA 71351, (318) 253-9767 | 800,000 | Public Facility—Community Center | Tunica Biloxi Child Daycare Center.
Turtle Mountain Band of Chippewa, Richard Marcellais, P.O. Box 900, Belcourt, ND 58316 | 1,100,000 | Housing Rehabilitation | Rehabilitation of 26 units for low income households on the reservation.
United Keetoowah Band of Cherokee Indians, George Wickliffe, Chief, P.O. Box 747, Tahlequah, OK 74465, (918) 456-5126 | 800,000 | Economic Development | Construction of retail office complex.
Utah Paiute Housing Authority, Jessie Laggis, Executive Director, 665 North, 100 East, Cedar City, UT, (435) 586-3751 | 900,000 | Housing Rehabilitation | Rehabilitation of 23 conveyed mutual housing units for low income, elderly, and disabled households.
Ute Mountain Ute Tribe, Ernest House, Sr., Tribal Chairperson, P.O. Box 248, Towaoc, CO 81334, (970) 565-3751 | 900,000 | Housing—New Construction | 11,500 sq. foot foundation to house 10-12 two-bedroom & three-bedroom units.
Village of Sleetmute, Pete Mellick, President, P.O. Box 34, Sleetmute, AK 99668, (907) 449-4205 | 600,000 | Public Facility—Community Center | Community center.
Wampanoag Tribe of Gay Head (Aquinnah) of MA, Cheryl Andrews-Maltais, Chairwoman, 20 Black Brook Road, Chilmark, MA 02535, (508) 645-9265 | 600,000 | Public Facility—Community center | Community center.
Wells Indian Colony Band of Te-Moak Tribe, Paula Salazar, Chairperson, P.O. Box 809, Wells, NV 89835, (775) 752-3045 | 605,000 | Public Facility—Community Center | Multi-purpose community center.
The Wyandotte Nation, Leaford Bearskin, Chief, 64700 E. Highway 60, Wyandotte, OK 74370, (918) 678-2297 | 792,630 | Public Facility—Infrastructure | Construction of a water system, storage well, well house, and access road.
Ysleta del Sur Pueblo, Frank Paiz, Governor, 119 S. Old Pueblo, El Paso, TX 79907, (915) 859-8053 | 605,000 | Housing Rehabilitation | 78 units of housing rehabilitation.
Yurok Tribe, Maria Tripp, Chairperson, P.O. Box 1027, Klamath, CA 95548, (707) 482-1350 | 605,000 | Economic Development | Fish processing plant and cannery.

[FR Doc. 2010-11734 Filed 5-17-10; 8:45 am]

BILLING CODE 4210-67-P